DEPARTMENT OF ENERGY

Federal Energy Regulatory Commission

[Docket No. CP99-322-001]

El Paso Natural Gas Company; Notice of Compliance Filing

July 5, 2001.

Take notice that on June 14, 2001, El Paso Natural Gas Company (El Paso) tendered tariff sheets to comply with order paragraph (E) of the Commission's February 9, 2000 order in this proceeding and, when approved by the Commission, to place into effect the revised Willcox Lateral Facilities Charge(s). The tariff sheets are proposed to become effective on July 15, 2001.

Any person desiring to protest said filing should file a protest with the Federal Energy Regulatory Commission, 888 First Street, NE., Washington, DC 20426, in accordance with Section 385.211 of the Commission's Rules and Regulations. All such protests must be filed in accordance with Section 154.210 of the Commission's Regulations, on or before July 15, 2001. Protests will be considered by the Commission in determining the appropriate action to be taken, but will not serve to make protestants parties to the proceedings. Copies of this filing are on file with the Commission and are available for public inspection. This filing may be viewed on the Commission's web site at http://www.ferc.gov using the “RIMS” link, select “Docket #” and follow the instructions ((202)208-2222 for assistance). Comments, protests and interventions may be filed electronically via the Internet in lieu of paper. See, 18 CFR 385.2001(a)(1)(iii) and the instructions on the Commission's web site under the “e-Filing” link.

David P. Boergers,
Secretary.

[FR Doc. 01-17309 Filed 7-10-01; 8:45 am]

BILLING CODE 6717-01-P